DEPARTMENT OF DEFENSE

Department of the Army

Advisory Committee on Arlington National Cemetery Meeting Notice

AGENCY: Department of the Army, DoD.

ACTION: Notice of open committee meeting.

SUMMARY: The Department of the Army is publishing this notice to announce the following virtual Federal advisory committee meeting of the Remember and Explore Subcommittee to the Advisory Committee on Arlington National Cemetery. This meeting is open to the public. For more information, please visit: https://www.arlingtoncemetery.mil/About/Advisory-Committee-on-Arlington-National-Cemetery/ACANC-Meetings.

DATES: The Remember and Explore Subcommittee will meet on Thursday, October 12, 2023, from 4 p.m. to 7 p.m., eastern daylight time.

FOR FURTHER INFORMATION CONTACT: Ms. Renea Yates; Designated Federal Official or Mr. Matthew Davis; Alternate Designated Federal Official (DFO) for the ACANC, in writing at Arlington National Cemetery (ANC), Arlington VA 22211, or by email at matthew.r.davis.civ@army.mil, or by phone at 1-877-907-8585.

SUPPLEMENTARY INFORMATION: This meeting is being held under the provisions of chapter 10, 5 U.S.C. (commonly known as the Federal Advisory Committee Act or FACA), the Sunshine in the Government Act of 1976 (U.S.C. 552b) and 41 Code of the Federal Regulations (CFR) 102-3.150.

Purpose of the Meeting: The primary purpose of the Remember & Explore Subcommittee is to recommend methods to maintain the Tomb of the Unknown Soldier Monument, including the cracks in the large marble sarcophagus, the adjacent marble slabs, and the potential replacement marble stone for the sarcophagus already gifted to the Army; accomplish an independent assessment of requests to place commemorative monuments within ANC; and identify means to capture and convey ANC's history, and improve the quality of visitors' experiences now and for generations to come.

Agenda: The Remember and Explore Subcommittee will receive an update to the Chaplain Memorials; and receive an update on Road Naming at Arlington National Cemetery.

Public's Accessibility to the Meeting: Pursuant to FACA and 41 CFR 102-3.140 through 102-3.165, this meeting is open to the public.

Procedures for Attendance and Public Comment: Contact Mr. Matthew Davis via electronic mail, the preferred mode of submission, at the addresses listed in the FOR FURTHER INFORMATION CONTACT section to register to attend this virtual meeting. Public attendance will be via virtual attendance only. To attend this event, submit your full name, organization, email address, and phone number, and which meeting you would like to attend. Upon receipt of this information, a link will be sent to the email address provided which will allow virtual attendance to the event. Requests to attend the meeting must be received by 5 p.m. eastern daylight time, on Monday, 9 October 2023. (ANC will be unable to provide technical assistance to any user experiencing technical difficulties.)

For additional information about public access procedures, contact Mr. Matthew Davis, the Alternate DFO, at the email address or telephone number listed in the FOR FURTHER INFORMATION CONTACT section.

Written Comments and Statements: Pursuant to 41 CFR 102-3.105(j) and 102-3.140 and 5 U.S.C. 1009(a)(3), the public or interested organizations may submit written comments or statements to the Subcommittees and/or the ACANC in response to the stated agenda of the open meeting or in regard to the ACANC's Committee's mission in general. Written comments or statements should be submitted to Mr. Matthew Davis, the Alternate DFO, via electronic mail, the preferred mode of submission, at the address listed in the FOR FURTHER INFORMATION CONTACT section. Each page of the comment or statement must include the author's name, title or affiliation, address, and daytime phone number. Written comments or statements being submitted in response to the agenda set forth in this notice must be received by the ACANC's DFO at least seven business days prior to the meeting to be considered by the ACANC. The ACANC's DFO will review all timely submitted written comments or statements with the ACANC's Chairperson, and ensure the comments are provided to all members of the ACANC before the meeting. Written comments or statements received after this date may not be provided to the ACANC until its next meeting. Pursuant to 41 CFR 102-3.140d, the ACANC is not obligated to allow any member of the public to speak or otherwise address the ACANC during the meeting. Members of the public may be permitted to make verbal comments during these meetings, and if allowed only at the time and in the manner described below. If a member of the public is interested in making a verbal comment at the open meeting, that individual must submit a request, with a brief statement of the subject matter to be addressed by the comment, at least three (3) business days in advance to the ACANC's Alternate DFO, via electronic mail, the preferred mode of submission, at the addresses listed in the FOR FURTHER INFORMATION CONTACT section. The ACANC's DFO will log each request, in the order received, and in consultation with the appropriate Chair determine whether the subject matter of each comment is relevant to the missions and/or the topics to be addressed in these public meeting. Members of the public who have requested to make a comment and whose comments have been deemed relevant under the process described above, will be invited to speak in the order in which their requests were received by the ACANC's DFO. The appropriate Chair may allot a specific amount of time for comments.

James W. Satterwhite Jr.,
Army Federal Register Liaison Officer.

[FR Doc. 2023-21070 Filed 9-26-23; 8:45 am]

BILLING CODE 3711-02-P